DEPARTMENT OF HEALTH AND HUMAN SERVICES

Centers for Disease Control and Prevention

Interagency Committee on Smoking and Health: Meeting

In accordance with section 10(a)(2) of the Federal Advisory Committee Act (Pub. L. 92-463), the Centers for Disease Control and Prevention (CDC) announces the following committee meeting:

Name: Interagency Committee on Smoking and Health (ICSH).

Date and Time: February 11, 2003, 1 p.m.—4 p.m.

Place: Department of Health and Human Services, Hubert H. Humphrey Building, Auditorium, Room 800, 200 Independence Avenue, SW, Washington, DC 20201.

Status: Open to the public, limited only by the space available. Those who wish to attend are encouraged to register with the contact person listed below. If you will require a sign language interpretator, or have other special needs, please notify the contact person by 4:30 E.S.T. on February 5, 2003.

Purpose: The Interagency Committee on Smoking and Health advises the Secretary, Health and Human Services, and the Assistant Secretary for Health in the (a) coordination of all research and education programs and other activities within the Department and with other federal, state, local and private agencies and (b) establishment and maintenance of liaison with appropriate private entities, federal agencies, and state and local public health agencies with respect to smoking and health activities.

Matters to be Discussed: The agenda will focus on the National Action Plan for Tobacco Cessation drafted by the Cessation Subcommittee. During the meeting, the action plan will be presented, debated and voted on by the ICSH. At a future date the Plan will be presented to the Secretary of Health and Human Services.

Contact Person for More Information: Substantive program information as well as summaries of the meeting and roster of committee members may be obtained from the Internet at http://www.cdc.gov/tobacco in mid-March or from Ms. Monica L. Swann, Program Specialist, Office on Smoking and Health, 200 Independence Avenue, SW, Suite 317B, Washington, DC 20201, (202) 205-8500.

The Director, Management Analysis and Services Office, has been delegated the authority to sign Federal Register notices pertaining to announcements of meetings and other committee management activities, for both the Centers for Disease Control and Prevention and the Agency for Toxic Substances and Disease Registry.

Dated: January 22, 2003.
Alvin Hall,
Director, Management Analysis and Services Office, Centers for Disease Control and Prevention.

[FR Doc. 03-1823 Filed 1-27-03; 8:45 am]

BILLING CODE 4163-18-P